DEPARTMENT OF TRANSPORTATION

Federal Aviation Administration

14 CFR Part 39

[Docket No. FAA-2019-0725; Product Identifier 2019-NM-099-AD]

RIN 2120-AA64

Airworthiness Directives; Bombardier, Inc., Airplanes

AGENCY: Federal Aviation Administration (FAA), DOT.

ACTION: Notice of proposed rulemaking (NPRM).

SUMMARY: The FAA proposes to adopt a new airworthiness directive (AD) for certain Bombardier, Inc., Model BD-700-1A10 and BD-700-1A11 airplanes. This proposed AD was prompted by a report that easy removal of the portable oxygen bottle from its support bracket may not always be possible on certain installations. This proposed AD would require installation of a modified top bracket and new middle bracket on all affected portable oxygen bottle installations. The FAA is proposing this AD to address the unsafe condition on these products.

DATES: The FAA must receive comments on this proposed AD by December 13, 2019.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For service information identified in this NPRM, contact Bombardier, Inc., 400 Côte-Vertu Road West, Dorval, Québec H4S 1Y9, Canada; phone: 514-855-5000; fax: 514-855-7401; email: thd.crj@aero.bombardier.com; internet: http://www.bombardier.com. You may view this service information at the FAA, Transport Standards Branch, 2200 South 216th St., Des Moines, WA. For information on the availability of this material at the FAA, call 206-231-3195.

Examining the AD Docket

You may examine the AD docket on the internet at http://www.regulations.gov by searching for and locating Docket No. FAA-2019-0725; or in person at Docket Operations between 9 a.m. and 5 p.m., Monday through Friday, except Federal holidays. The AD docket contains this NPRM, the regulatory evaluation, any comments received, and other information. The street address for Docket Operations (phone: 800-647-5527) is listed above. Comments will be available in the AD docket shortly after receipt.

FOR FURTHER INFORMATION CONTACT: Darren Gassetto, Aerospace Engineer, Mechanical Systems and Administrative Services Section, FAA, New York ACO Branch, 1600 Stewart Avenue, Suite 410, Westbury, NY 11590; phone: 516-228-7323; fax: 516-794-5531; email: 9-avs-nyaco-cos@faa.gov.

SUPPLEMENTARY INFORMATION:

Comments Invited

The FAA invites you to send any written relevant data, views, or arguments about this proposal. Send your comments to an address listed under the ADDRESSES section. Include “Docket No. FAA-2019-0725; Product Identifier 2019-NM-099-AD” at the beginning of your comments. The FAA specifically invites comments on the overall regulatory, economic, environmental, and energy aspects of this NPRM. The FAA will consider all comments received by the closing date and may amend this NPRM because of those comments.

The FAA will post all comments received, without change, to http://www.regulations.gov, including any personal information you provide. The FAA will also post a report summarizing each substantive verbal contact received about this NPRM.

Discussion

Transport Canada Civil Aviation (TCCA), which is the aviation authority for Canada, has issued Canadian AD CF-2019-18, dated May 10, 2019 (referred to after this as the Mandatory Continuing Airworthiness Information, or “the MCAI”), to correct an unsafe condition for certain Bombardier, Inc., Model BD-700-1A10 and BD-700-1A11 airplanes. The MCAI states:

Bombardier Inc. has discovered that easy removal of the portable oxygen bottle from its support bracket may not always be possible on some portable oxygen bottle installations due to the latch of the upper bracket assembly catching on the pressure gauge tube or on the pressure gauge bezel of the portable oxygen bottle. The portable oxygen bottle is required to be accessible for use by cabin crew members in emergency situations. This [Canadian] AD requires installation of a modified top bracket and new middle bracket on all affected portable oxygen bottle installations to improve portable oxygen bottle accessibility.

You may examine the MCAI in the AD docket on the internet at http://www.regulations.gov by searching for and locating Docket No. FAA-2019-0725.

Related Service Information Under 1 CFR Part 51

Bombardier has issued the following service information. The service information describes procedures for installation of a modified top bracket and new middle bracket on all affected portable oxygen bottle installations. These documents are distinct since they apply to different airplane models in different configurations.

• Service Bulletin 700-1A11-35-013, dated July 3, 2018.

• Service Bulletin 700-35-014, dated July 3, 2018.

• Service Bulletin 700-35-5003, Revision 01, dated November 23, 2018.

• Service Bulletin 700-35-6003, Revision 02, dated November 23, 2018.

This service information is reasonably available because the interested parties have access to it through their normal course of business or by the means identified in the ADDRESSES section.

FAA's Determination

This product has been approved by the aviation authority of another country, and is approved for operation in the United States. Pursuant to our bilateral agreement with the State of Design Authority, we have been notified of the unsafe condition described in the MCAI and service information referenced above. We are proposing this AD because we evaluated all the relevant information and determined the unsafe condition described previously is likely to exist or develop on other products of the same type design.

Proposed Requirements of This NPRM

This proposed AD would require accomplishing the actions specified in the service information described previously.

Costs of Compliance

The FAA estimates that this proposed AD affects 108 airplanes of U.S. registry. The FAA estimates the following costs to comply with this proposed AD:

Estimated Costs for Required Actions
Labor cost | Parts cost | Cost per product | Cost on U.S. operators
2 work-hours × $85 per hour = $170 per installation | $1,575 per installation | $1,745 per installation | $188,460 per installation.

According to the manufacturer, some or all of the costs of this proposed AD may be covered under warranty, thereby reducing the cost impact on affected individuals. The FAA does not control warranty coverage for affected individuals. As a result, the FAA has included all known costs in the cost estimate.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This proposed AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes and associated appliances to the Director of the System Oversight Division.

Regulatory Findings

The FAA determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Bombardier, Inc.: Docket No. FAA-2019-0725; Product Identifier 2019-NM-099-AD.

(a) Comments Due Date

The FAA must receive comments by December 13, 2019.

(b) Affected ADs

None.

(c) Applicability

This AD applies to the following Bombardier, Inc., airplanes, certificated in any category.

(1) Model BD-700-1A10, serial numbers 9002, 9006 through 9010 inclusive, 9012, 9016, 9018 through 9023 inclusive, 9029 through 9031 inclusive, 9033, 9035 through 9037 inclusive, 9039 through 9048 inclusive, 9058, 9059, 9061, 9063, 9066 through 9068 inclusive, 9070, 9071, 9073 through 9075 inclusive, 9078, 9085, 9090, 9092, 9093, 9097, 9105, 9106, 9108, 9112, 9121, 9122, 9124, 9137, 9139, 9143, 9145, 9153, 9167, 9177, 9181, 9183, 9185, 9187, 9191, 9203, 9205, 9210, 9223, 9234, 9236, 9244, 9250, 9264, 9270, 9272, 9283, 9286, 9294, 9304, 9312, 9314, 9326, 9333, 9364, 9368, 9378, 9381, 9388, 9407, 9419, 9438, 9460, 9470, 9475, 9478, 9479, 9481, 9484, 9485, 9499, 9524, 9529, 9530, 9533, 9538, 9551, 9553, 9568, 9598, 9615, 9624, 9632, 9638, 9640, 9641, 9648, 9657, 9670, 9680, 9682, 9689, 9700, 9706, 9723, 9726, 9730, 9731, 9745, 9752, 9753, 9757, 9759, 9773, 9775, 9804, 9814, 9816, and 9817.

(2) Model BD-700-1A11, serial numbers 9176, 9178, 9182, 9207, 9212, 9216, 9217, 9227, 9255, 9285, 9376, 9389, 9401, 9427, 9480, 9483, 9498, 9513, 9531, 9536, 9555, 9558, 9569, 9581, 9589, 9592, 9597, 9613, 9618, 9660, 9710, 9722, 9732, 9734, 9737, 9768, 9777, and 9790.

(d) Subject

Air Transport Association (ATA) of America Code 35, Oxygen.

(e) Reason

This AD was prompted by a report that easy removal of the portable oxygen bottle from its support bracket may not always be possible on certain installations. The FAA is issuing this AD to address inaccessible portable oxygen bottles, which may not be available to the flightcrew in emergency situations.

(f) Compliance

Comply with this AD within the compliance times specified, unless already done.

(g) Definition

For the purposes of this AD, an affected portable oxygen bottle installation is defined as one that is installed in any of the airplanes specified in paragraphs (c)(1) and (2) of this AD.

(h) Installation of Modified Top Bracket and New Middle Bracket

Within 60 months after the effective date of this AD, install a modified top bracket and new middle bracket on all affected portable oxygen bottle installations in accordance with paragraph 2.B. of the Accomplishment Instructions of the applicable service information specified in figure 1 to paragraph (h) of this AD.

(i) Credit for Previous Actions

This paragraph provides credit for actions required by paragraph (h) of this AD, if those actions were performed before the effective date of this AD using Bombardier Service Bulletin 700-35-5003, dated July 3, 2018; or Bombardier Service Bulletin 700-35-6003, dated July 3, 2018; or Bombardier Service Bulletin 700-35-6003, Revision 01, dated September 5, 2018; as applicable.

(j) Other FAA AD Provisions

The following provisions also apply to this AD:

(1) Alternative Methods of Compliance (AMOCs): The Manager, New York ACO Branch, FAA, has the authority to approve AMOCs for this AD, if requested using the procedures found in 14 CFR 39.19. In accordance with 14 CFR 39.19, send your request to your principal inspector or local Flight Standards District Office, as appropriate. If sending information directly to the manager of the certification office, send it to ATTN: Program Manager, Continuing Operational Safety, FAA, New York ACO Branch, 1600 Stewart Avenue, Suite 410, Westbury, NY 11590; phone: 516-228-7300; fax: 516-794-5531. Before using any approved AMOC, notify your appropriate principal inspector, or lacking a principal inspector, the manager of the local flight standards district office/certificate holding district office.

(2) Contacting the Manufacturer: For any requirement in this AD to obtain corrective actions from a manufacturer, the action must be accomplished using a method approved by the Manager, New York ACO Branch, FAA; or Transport Canada Civil Aviation (TCCA); or Bombardier, Inc.'s TCCA Design Approval Organization (DAO). If approved by the DAO, the approval must include the DAO-authorized signature.

(k) Related Information

(1) Refer to Mandatory Continuing Airworthiness Information (MCAI) Canadian AD CF-2019-18, dated May 10, 2019, for related information. This MCAI may be found in the AD docket on the internet at http://www.regulations.gov by searching for and locating Docket No. FAA-2019-0725.

(2) For more information about this AD, contact Darren Gassetto, Aerospace Engineer, Mechanical Systems and Administrative Services Section, FAA, New York ACO Branch, 1600 Stewart Avenue, Suite 410, Westbury, NY 11590; phone: 516-228-7323; fax: 516-794-5531; email: 9-avs-nyaco-cos@faa.gov.

(3) For service information identified in this AD, contact Bombardier, Inc., 400 Côte-Vertu Road West, Dorval, Québec H4S 1Y9, Canada; phone: 514-855-5000; fax: 514-855-7401; email: thd.crj@aero.bombardier.com; internet: http://www.bombardier.com. You may view this service information at the FAA, Transport Standards Branch, 2200 South 216th St., Des Moines, WA. For information on the availability of this material at the FAA, call 206-231-3195.

Issued in Des Moines, Washington, on October 22, 2019.
Dionne Palermo,
Acting Director, System Oversight Division, Aircraft Certification Service.

[FR Doc. 2019-23528 Filed 10-28-19; 8:45 am]

BILLING CODE 4910-13-P